DEPARTMENT OF THE INTERIOR

Bureau of Land Management

[NV-952-07-1420-BJ]

Filing of Plats of Survey; Nevada

AGENCY: Bureau of Land Management.

ACTION: Notice.

SUMMARY: The purpose of this notice is to inform the public and interested State and local government officials of the filing of Plats of Survey in Nevada.

EFFECTIVE DATES: Filing is effective at 10 a.m. on the date indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Supplemental Plat of the following described lands was officially filed at the Nevada State Office, Reno, Nevada, on July 10, 2006:

The supplemental plat, showing amended lottings of lots 21 and 22, section 19, Township 19 North, Range 44 East, Mount Diablo Meridian, Nevada, was accepted July 7, 2006.

This supplemental plat was prepared to meet certain administrative needs of the Bureau of Land Management.

2. The plat of Survey of the following described lands was officially filed at the Nevada State Office, Reno, Nevada, on July 24, 2006.

The plat representing the dependent resurvey of portions of the south and west boundaries and a portion of the subdivisional lines, and the subdivision of section 32, Township 19 North, Range 19 East, Mount Diablo Meridian, Nevada, under Group No. 768, was accepted July 21, 2006. This survey was executed to meet certain administrative needs of the U.S. Forest Service.

3. The plat of Survey of the following described lands was officially filed at the Nevada State Office, Reno, Nevada, on August 24, 2006.

The plat representing the dependent resurvey of a portion of the subdivisional lines, and the subdivision of sections 16 and 17, Township 30 North, Range 19 East, Mount Diablo Meridian, Nevada, under Group No. 819, was accepted August 22, 2006.

This survey was executed to meet certain administrative needs of the Bureau of Land Management.

4. The plat of Survey of the following described lands was officially filed at the Nevada State Office, Reno, Nevada, on September 13, 2006.

The plat representing the dependent resurvey of a portion of the subdivisional lines and a portion of the subdivision of section 29, the further subdivision of section 29, and a metes-and-bounds survey in section 29, Township 19 South, Range 60 East, Mount Diablo Meridian, Nevada, under Group No. 825, was accepted September 13, 2006.

This survey was executed to meet certain administrative needs of the Bureau of Land Management.

5. The above-listed surveys are now the basic record for describing the lands for all authorized purposes. These surveys have been placed in the open files in the BLM Nevada State Office and are available to the public as a matter of information. Copies of the surveys may be furnished to the public upon payment of the appropriate fees.

Dated: October 6, 2006.
David D. Morlan,
Chief Cadastral Surveyor, Nevada.

[FR Doc. E6-17085 Filed 10-13-06; 8:45 am]

BILLING CODE 4310-HC-P